COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products previously furnished by such agencies.

DATES: Comments Must Be Received On Or Before: 4/6/2015.

ADDRESSES: Committee for Purchase From People Who Are Blind or Severely Disabled, 1401 S. Clark Street, Suite 715, Arlington, Virginia 22202-4149.

For Further Information or To Submit Comments Contact: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to furnish the service listed below from the nonprofit agency employing persons who are blind or have other severe disabilities.

The following service is proposed for addition to the Procurement List for production by the nonprofit agency listed:

Service Type: Base Operations and Administrative Services

Service is Mandatory for: Marine Corps Base Hawaii (MCB), Camp Smith, Halawa, HI and Kaneohe Bay, HI

Mandatory Source of Supply: PRIDE Industries, Roseville, CA

Contracting Activity: Dept of the Navy, HQBN, Marine Corps Base Hawaii, Kaneohe Bay, HI

Deletions

The following products are proposed for deletion from the Procurement List:

Products

NSN: 7510-00-NIB-0588—Binder, Vinyl.

Previous Mandatory Source: ForSight Vision, York, PA.

Was Mandatory for: General Services Administration, New York, NY.

NSN: 7510-01-519-4361—Binder, Round Ring, Clear Overlay, Pockets, Brown, ½″ Capacity, Letter.

Previous Mandatory Source: South Texas Lighthouse for the Blind, Corpus Christi, TX.

Was Mandatory for: Department of Veterans Affairs, NAC, Hines, IL and General Services Administration, New York, NY.

NSN: 6530-00-NIB-0129—Bottle, Pharmaceutical, White, Screw Cap, 60cc.

NSN: 6530-00-NIB-0130—Bottle, Pharmaceutical, White, Screw Cap, 100cc.

NSN: 6530-00-NIB-0131—Bottle, Pharmaceutical, White, Screw Cap, 150cc.

NSN: 6530-00-NIB-0132—Bottle, Pharmaceutical, White, Screw Cap, 300cc.

NSN: 6530-00-NIB-0133—Bottle, Pharmaceutical, White, Screw Cap, 500cc.

Previous Mandatory Source: Alphapointe, Kansas City, MO.

Was Mandatory for: Department of Health and Human Services, Division of Contract & Grants Operations, Washington, DC.

Patricia Briscoe,
Deputy Director, Business Operations (Pricing and Information Management).

[FR Doc. 2015-05210 Filed 3-5-15; 8:45 am]

BILLING CODE 6353-01-P